DEPARTMENT OF COMMERCE

National Oceanic and Atmospheric Administration

RIN 0648-XV28

Endangered Species; File No. 14176

AGENCY: National Marine Fisheries Service (NMFS), National Oceanic and Atmospheric Administration (NOAA), Commerce.

ACTION: Notice; receipt of application.

SUMMARY: Notice is hereby given that the United States Fish and Wildlife Service (USFWS), Maryland Fishery Resources Office, 177 Admiral Cochrane Drive, Annapolis, MD 21401 (Michael Mangold, Responsible Party), has applied in due form for a permit to take shortnose sturgeon (Acipenser brevirostrum) for purposes of scientific research.

DATES: Written, telefaxed, or e-mail comments must be received on or before April 19, 2010.

ADDRESSES: The application and related documents are available for review by selecting “Records Open for Public Comment” from the Features box on the Applications and Permits for Protected Species (APPS) home page, https://apps.nmfs.noaa.gov/, and then selecting File No. 14176 from the list of available applications. The application and related documents are available for review upon written request or by appointment in the following offices:

• Permits, Conservation and Education Division, Office of Protected Resources, NMFS, 1315 East-West Highway, Room 13705, Silver Spring, MD 20910; phone (301) 713-2289; fax (301) 713-0376; and

• Northeast Region, NMFS, Protected Resources Division, 55 Great Republic Drive, Gloucester, MA 01930; phone (978) 281-9328; fax (978) 281-9394.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301) 713-0376, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 14176.

FOR FURTHER INFORMATION CONTACT: Malcolm Mohead or Kate Swails, (301) 713-2289.

SUPPLEMENTARY INFORMATION: The subject permit is requested under the authority of the Endangered Species Act of 1973, as amended (ESA; 16 U.S.C. 1531 et seq.), and the regulations governing the taking, importing, and exporting of endangered and threatened species (50 CFR 222-226).

The applicant is seeking a five year permit to assess biological and life history information on shortnose sturgeon in the Potomac River. Primary objectives of the study would be: (1) capturing and tracking acoustically tagged sturgeon to determine seasonal movements, habitat selection, spawning success and spawning periodicity; and (2) characterizing the genetics of Potomac River shortnose sturgeon. To accomplish these goals, up to 30 fish annually would be non-lethally sampled with gill nets, measured, weighed, PIT and Floy tagged, and tissue sampled. Of these, up to 10 adult shortnose sturgeon each year would be acoustically tagged five internally and five externally and released. Additionally, researchers propose to use D-nets to collect up to 20 shortnose sturgeon in early life stages annually to estimate spawning success and periodicity.

Dated: March 15, 2010.
P. Michael Payne,
Chief, Permits, Conservation and Education Division, Office of Protected Resources, National Marine Fisheries Service.

[FR Doc. 2010-6084 Filed 3-18-10; 8:45 am]

BILLING CODE 3510-22-S